ENVIRONMENTAL PROTECTION AGENCY

40 CFR Part 300

[EPA-HQ-SFUND-1983-0002; FRL 9907-66-Region 1]

National Oil and Hazardous Substances Pollution Contingency Plan; National Priorities List: Deletion of the O'Connor Superfund Site

AGENCY: Environmental Protection Agency.

ACTION: Direct final rule.

SUMMARY: The Environmental Protection Agency (EPA) Region 1 is publishing a direct final Notice of Deletion of the O'Connor Superfund Site (Site), located in Augusta, Maine, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Maine, through the Maine Department of Environmental Protection, because EPA has determined that all appropriate response actions under CERCLA, other than operation, maintenance, and five-year reviews, have been completed. However, this deletion does not preclude future actions under Superfund.

DATES: This direct final deletion is effective May 12, 2014 unless EPA receives adverse comments by April 11, 2014. If adverse comments are received, EPA will publish a timely withdrawal of the direct final deletion in the Federal Register informing the public that the deletion will not take effect.

ADDRESSES: Submit your comments, identified by Docket ID no. EPA-HQ-SFUND-1983-0002, by one of the following methods:

• http://www.regulations.gov. Follow on-line instructions for submitting comments.

• Email: connelly.terry@epa.gov.

• Fax: 617 918-0373.

• Mail: Terrence Connelly, US EPA Region 1, 5 Post Office Square, Suite 100, Boston, MA 02109—3919.

• Hand delivery: US EPA Region 1, 5 Post Office Square, Suite 100, Boston, MA 02109-3912. Such deliveries are only accepted during the Docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

EPA Records and Information Center, 5 Post Office Square, First Floor, Boston, MA 02109·3912, Monday-Friday 8:00 a.m.-5:00 p.m.

and

Lithgow Public Library, 45 Winthrop St., Augusta, Maine 04330, Mon-Thurs 9:00 a.m.-8 p.m., Friday 9:00 a.m.-5 p.m., Saturday 9:00 a.m.-12:00 p.m.

FOR FURTHER INFORMATION CONTACT: Terrence Connelly, Remedial Project Manager, U.S. Environmental Protection Agency, Region 1, Mailcode OSRR07-1, 5 Post Office Square, Suite 100, Boston, MA 02109-3919, (617) 918-1373, email: connelly.terry@epa.gov.

SUPPLEMENTARY INFORMATION:

Table of Contents

I. Introduction

II. NPL Deletion Criteria

III. Deletion Procedures

IV. Basis for Site Deletion

V. Deletion Action

I. Introduction

EPA Region 1 is publishing this direct final Notice of Deletion of the O'Connor, also known as the F. O'Connor Company, Superfund Site (Site), from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e) (3) of the NCP, sites deleted from the NPL remain eligible for Fund-financed remedial actions if future conditions warrant such actions.

Because EPA considers this action to be noncontroversial and routine, this action will be effective May 12, 2014 unless EPA receives adverse comments by April 11, 2014. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the O'Connor Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State of Maine prior to developing this direct final Notice of Deletion and the Notice of Intent to Delete co-published today in the “Proposed Rules” section of the Federal Register.

(2) EPA has provided the State 30 working days for review of this notice and the parallel Notice of Intent to Delete prior to their publication today, and the State, through the Maine Department of Environmental Protection, has concurred on the deletion of the Site from the NPL.

(3) Concurrently with the publication of this direct final Notice of Deletion, a notice of the availability of the parallel Notice of Intent to Delete is being published in a major local newspaper, the Kennebec Journal. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Site CERCLIS ID is MED980731475. The Site consists of approximately 23 acres within a 28-acre property owned by Central Maine Power Company (CMP) and is located on Maine State Route 17 approximately three miles east of the Kennebec River in Augusta, in Kennebec County, Maine. The Maine Department of Environmental Protection (MEDEP) also designated the same 23-acre property as a Hazardous Substance Site. The surrounding area is generally rural. The property is bordered on the east and southeast by Riggs Brook, a small northerly flowing tributary of the Kennebec River, on the north and west by woodlands, and on the south by Route 17. The property south of Route 17 is primarily wooded. A residence abuts the CMP property along its western boundary. Automotive entry to the Site is limited to Route 17; there are trails which enter the Site from the north and west.

The land at the Site was used as farmland until the 1950s when the F. O'Connor Company established a salvage yard and transformer recycling operation on the property. The F. O'Connor Company operated until the late 1970s. This resulted in drippage and spillage of oil to the ground, principally in the three transformer work areas (TWAs).

In February 1972, an oil spill was found to have migrated toward Riggs Brook. In 1976, MEDEP began investigations through sampling and analysis of the soils, sediments, and surface waters for polychlorinated biphenyls (PCBs). Soil and groundwater contamination primarily consisted of PCBs with some volatile and semivolatile organic compounds (VOCs and SVOCs), and inorganics. Potential sources of contamination that were identified included the TWAs, scrap piles, oil storage tanks, and two lagoons installed to help control oil migration from the property. Concern for the potential impact on soils, surface water, and groundwater were the primary reasons the Site was proposed for the National Priorities List on December 30, 1982, (47 FR 58476). The Site was listed on September 8, 1983, (48 FR 40658).

Three removal actions were performed at the Site by the F. O'Connor Company and CMP. In 1977, at the request of MEDEP the F. O'Connor Company discontinued use of the lagoons, pumped the lagoon water into storage tanks and excavated the lagoon sediments which were then placed in an upland area upgradient of the TWAs. In 1984, EPA issued a Unilateral Administrative Order to the F. O'Connor Company to construct a fence encompassing approximately five acres of the Site. Under a 1986 Administrative Order by Consent between MEDEP and F. O'Connor Company and CMP, 20 storage tanks and 21 55-gallon drums were removed off the Site.

Remedial Investigation and Feasibility Study (RI/FS)

On May 13, 1986, EPA issued an Administrative Order by Consent to the F. O'Connor Company and CMP. This Order was entered into voluntarily by these parties in order to conduct a Remedial Investigation/Feasibility Study (RI/FS) to determine the nature and extent of contamination, to evaluate alternatives, and to make recommendations for the appropriate remedial actions at the Site. The FS identified seven exposure scenarios posing potential risks to human health or the environment: Direct contact with soils by children; inhalation of vapors from surface soils; ingestion of fish caught in Riggs Brook; future direct contact with soils by on-site inhabitants; future direct contact with sediments in the lower lagoon by children; future inhalation of vapors by on-site inhabitants; and future ingestion of groundwater from within the bedrock.

In 1992 CMP acquired ownership of the property from the F. O'Connor Company.

Selected Remedy

A remedy was selected to meet the following Remedial Action Objectives (RAOs) identified for the Site in the 1989 Record of Decision (ROD):

• Reduce potential present and future public health and environmental risks from direct contact, ingestion, and/or dermal absorption with the PCB-,cPAH-, and lead-contaminated soils and sediments located on- and off-site;

• Reduce potential present and future public health risks from the inhalation of PCB vapors;

• Reduce potential present and future public health risks from the ingestion of PCB-contaminated fish from Riggs Brook;

• Reduce potential future public health risks from the ingestion ofPCB-, benzene-, and 1,4 dichlorobenzene-contaminated groundwater found on the Site; and

• Reduce potential present and future environmental risks to aquatic and terrestrial wildlife from exposures to the PCB-, lead-, and aluminum-contaminated on-site surface water.

The major components of the Source Control (OU-1) remedy were:

• Excavation and on-site treatment by solvent extraction technology of all soil and sediment containing concentrations of PCBs and cPAHs greater than 1 ppm and lead greater than 248 ppm;

• Draining and off-site treatment of surface waters from the Upland Marsh, Upper Lagoon, and Lower Lagoon;

• Transportation and off-site disposal of soil and sediments should solvent extraction not achieve target cleanup levels;

• Establishment of compensatory wetlands; and

• Site restoration following excavation activities.

The major components of the Management of Migration (OU-2) remedy were:

• Establishment of temporary institutional controls until groundwater remediation goals were achieved;

• Installation of groundwater extraction and monitoring wells;

• Installation of an on-site groundwater treatment and recharge system; and

• Treatment and recharge system monitoring, operation, and maintenance.

The Management of Migration remedy also included response actions for Riggs Brook sediment. These included:

• Establishment and implementation of an extensive sediment and biota sampling and analysis program within Riggs Brook; and

• Implementation of public education programs.

In 1996, EPA designated Riggs Brook as OU-3. The remedy also included five-year reviews of site-wide conditions.

The 1989 ROD has been modified three times. On July 11, 1994, an Explanation of Significant Differences (ESD) was approved. This adjusted the soil target cleanup goals for all soils that would be located more than 12 inches below grade and within a three- to four-acre area (the Designated Area) to a maximum 10 ppm for PCBs and for cPAHs, and 248 ppm for lead. The target cleanup goals for soils outside the Designated Area remained at 1 ppm for PCBs and for cPAHs, and 248 ppm for lead. The ESD also included a contingency that allowed soils and sediments to be disposed offsite without solvent extraction treatment, upon approval by EPA.

On October 23, 1995, EPA approved the contingency based upon the determination that the solvent extraction treatment was not feasible to meet the target cleanup goals.

On September 26, 2002, EPA issued a ROD Amendment. The ROD Amendment for OU-2 required permanent institutional controls, active oil recovery, long-term monitoring of groundwater, and five-year reviews. The ROD Amendment also recognized the technical impracticability of achieving the cleanup levels required by the 1989 ROD in groundwater found on the Site (third RAO of 1989 ROD) within a reasonable timeframe. As a result, the ROD Amendment established a Technical Impracticability Zone (TI Zone) for a portion of the Site (including TWA II Area) where state and federal drinking water standards are waived. The ROD Amendment did not substantially alter the Source Control or Riggs Brook remedies.

Response Actions

The Source Control Remedial Action (SCRA) was conducted in two phases. Phase I was completed in 1996. A subset of the soils were remediated, the barn was decontaminated, demolished and disposed of offsite, non-native debris was collected and disposed offsite, and the Support Area for Phase II was constructed. Phase II activities were conducted in 1997. During Phase II, surface water from the Upper Lagoon, Lower Lagoon, and Upland Marsh was collected and disposed of offsite, the remaining soils and sediments were remediated, the lagoons and marsh were reconstructed, and the Site re-graded and vegetated.

All soils and sediments within OU-1 containing greater than 10 ppm PCBs, 10 ppm cPAHs, and 248 ppm total lead were excavated and disposed of at approved disposal facilities offsite. A total of 19,357 tons of soil and sediment were excavated and disposed of: 8,010 tons characterized as Special Waste (a State of Maine designation) were transported to two facilities in Maine; 11,222 tons characterized as TSCA and/or RCRA wastes to a facility in New York; and 125 tons characterized as RCRA waste to a facility in Quebec.

Soils and sediments within the Designated Area containing less than or equal to 10 ppm PCBs or cPAHs and less than 248 ppm total lead were not excavated. Approximately 3,000 to 4,000 tons of soil and sediments located outside the Designated Area and containing between 1 and 10 ppm PCBs or cPAHs and less than 248 ppm total lead were excavated and placed within the Designated Area.

The Management of Migration Remedial Action, as amended in 2002, included active and passive oil recovery and monitoring of water quality at the TI boundary and downgradient of it. Investigations completed following the 1989 ROD determined that the migration of contaminants in the shallow groundwater in the downgradient direction was limited; the bedrock aquifer had low groundwater storage and therefore a relatively small volume of water. It was also concluded that the 1992 pump test had mobilized the PCB transformer oil and other contaminants vertically downward into the bedrock flow regime.

Seepage of the transformer oil with elevated PCB concentrations into the TWA II wells had been observed since it was first induced into the wells during the 1992 pump test. The total amount of transformer oil recovered from the five TWA II wells since their installation using a combination of vacuum enhanced recovery (VER) and passive oil recovery is about 125 gallons. Approximately 79 gallons of oil (about 63%) were recovered prior to the completion of the source control work, and approximately 35 gallons (about 28%) after the completion of source control through the summer of 2002. Approximately 7.4 gallons of oil were recovered by the VER system in 2002, 2.5 gallons in 2003, and about 0.3 gallons in both 2004 and 2006. The system was not operated in 2005 because of equipment failure. Significantly there was not any increase in the amount recovered passively nor was any increase observed when the active recovery resumed in August 2006. The amount of oil removed from the wells using the VER system decreased steadily over time to minimal amounts. In December 2006, the VER system was decommissioned because the rate of oil recovery using passive recovery was equal to or greater than with the VER system. Prior to 2005, the passive oil recovery program was conducted monthly. Since 2005, passive oil recovery has continued on a quarterly basis.

Groundwater cleanup standards defined in the 2002 ROD Amendment for VOCs have been met at all wells at the TI boundary and beyond the TI Zone since Spring 2002, and the cleanup standard for PCBs has been met at all wells at the TI boundary and beyond the TI Zone since Spring 2006.

The 1989 ROD selected yearly sediment sampling for ten years for Riggs Brook and its associated wetlands. In addition, biota sampling was to be performed at least once, after five years of sediment sampling. CMP conducted annual sediment monitoring of Riggs Brook for ten years (1996-2005) as required by the ROD. At EPA's request, the 2000 annual sediment sampling program was supplemented with a sampling grid with 51 locations adjacent to Riggs Brook in adjacent source control areas. Biota sampling was first conducted in 1997 with the collection of twenty samples. Following a recalculation of the data from mg/kg dry weight to mg/kg wet weight, it was determined that all samples were below the target level of 2 mg/kg (or ppm) of PCBs. A second biota sampling occurred in September 2000, when a total of twenty biota samples were collected from Riggs Brook and analyzed for PCBs. As was the case in 1997, all samples were below the target level of 2 mg/kg wet weight. A comparison to the 1997 data indicated that the biota PCB concentrations had decreased.

Following review of the results from the 2000 sediment and biota sampling, EPA and MEDEP agreed that with the decrease of PCBs in the biota samples as well as the scattered locations of the sediment exceedances, remedial efforts to address the scattered sediment exceedances were not required at that time. Instead, the 2001 sampling (year six of the ROD-required ten) was to be expanded to monitor the locations identified in the supplemental sampling grid. The 2001 sediment sampling had one exceedance above the 5 ppm trigger level of the thirty-six samples. This one location (location 3018, at 6.1 ppm) is located near the wetland/upland boundary and within the area excavated during the SCRA.

Cleanup Levels

The 1994 ESD changed the cleanup levels from 1 ppm PCBS and 1 ppm PAHs to less than 10 ppm PCBs and 10 ppm cPAHs within the Designated Area, while affirming the 1989 ROD cleanup levels of 1 ppm outside the Designated Area. The total lead cleanup level remained the same at 248 ppm total. All soils and sediment within OU-1 above 10 ppm PCBs or 10 ppm cPAHs were disposed of at offsite facilities. The limits of excavation within and outside the Designated Area were based on analytical results, isopachs, and visual examination of the contamination. Following excavation, confirmation samples were collected at the base of the excavation to determine if the concentrations of PCBs, cPAHs, and total lead were below the respective cleanup goals. If a sample exceeded the target cleanup goal, excavation continued. If the target cleanup goals were met, the sample was used as a confirmation sample, and the area represented by the sample node was confirmed as closed. Pre-excavation and most confirmation samples were collected at specified locations on a sampling grid that was developed to provide a statistically valid approach for confirming that the soils and sediments had meet the target cleanup goals. Additional random samples were collected as determined necessary in the field to confirm attainment of target cleanup goals.

The Site was divided into five sample areas in the 100% Remedial Design, based on contaminants, target cleanup goals, Site history, geology, and a review of the Remedial Investigation data. Based on all this information, a work plan was developed, approved, and implemented. Areas 1, 2, and 3 were sampled for PCBs, Area 4 for lead, and Area 5 for cPAHs. All five areas were further divided into subareas. Statistical analysis of the sampling concluded that the cleanup levels were met in all Sample Areas except Subarea 5B.

Subarea 5B underwent two rounds of excavation and three rounds of sampling. Analyses of the third round of samples collected at 1.4 to 3.3 feet below ground surface found cPAHs concentrations ranging between 1.2 to 6.6 ppm. In a letter dated October 27, 1997, MEDEP approved no further excavation was warranted in subarea 5B after calculating toxicity equivalence factors for the individual cPAH concentrations remaining in subarea 5B. The total toxicological equivalency value was found to be 1 ppm, which was less than the applicable worker standard of 7 ppm and less than the residential scenario of 2 ppm. EPA provided approval for no further action at subarea 5B.

Groundwater has been monitored at the Site since 1986. Beginning in Spring 2008, the sampling frequency was changed from semi-annual to annual. The monitoring program currently consists of nine wells, four outside the TI Zone and five within the TI Zone and downgradient of the TWA II area. Based on steady improvements in groundwater, and that groundwater had met target cleanup goals for the Site in all wells outside the TI Zone since 2006, 28 monitoring wells and piezometers at the Site were decommissioned in September 2008. Groundwater monitoring reports have been prepared by CMP's consultant Woodard & Curran and the data demonstrate the attainment of the cleanup levels for the Site.

The results of the ten-year sampling program showed the sediments in Riggs Brook to be stable, with no indication that PCBs were migrating or increasing in concentration. Over 95% of the samples were below the PCB action trigger level of 5 ppm with the annual mean varying between 0.38 to 1.93 ppm. With one location, sediment 3018, having the maximum PCB concentration from 2001 through 2005, CMP proposed to excavate a ten-foot square centered on that sediment location. EPA, after opportunity for review and comment by MEDEP, approved this approach. Approximately three tons of material were excavated and disposed offsite at a Special Waste landfill in Maine.

Operation and Maintenance

The O&M activities associated with the SCRA and long-term monitoring at the Site were initiated in 1998 upon completion of the SCRA. Inspections of the Site have been conducted semi-annually. The O&M Plan for the Site was last updated in October 2009 and describes the long-term activities for OU-1 and OU-2 at the Site, including inspections, soil cover sampling, routine maintenance, and repairs as necessary. Sediment and biota sampling have been completed for OU-3, and therefore, there are no O&M activities associated with OU-3. Inspections have been conducted at the Site and have documented that the vegetation is well developed and minor ruts in the access road have been repaired. There has been no significant erosion of the soil cover over the Designated Area or on the slope leading down to the Riggs Brook since the completion of the SCRA. Because contamination remains that prevents unlimited exposure and unrestricted use of the Site, it is anticipated that maintenance and inspections will continue for an extended period of time.

In 1994, CMP and MEDEP signed an agreement in the form of a Declaration of Restrictive Covenant. This covenant includes the following: Any use of the groundwater beneath the Site is prohibited without the written approval of MEDEP; any activity which might disrupt remedial or monitoring measures is prohibited without the written approval of MEDEP; and CMP or any subsequent owner shall maintain the Site in a condition adequate to ensure the continued compliance with all applicable standards and to ensure the ongoing adequacy of the remediation. On September 13, 2002, the Declaration of Restrictive Covenant was recorded in the Kennebec County Registry of Deeds.

Additionally, the restrictive covenant provides that CMP and all subsequent owners shall maintain the Site property in a condition adequate to ensure the continued compliance with all applicable cleanup standards and to ensure the ongoing adequacy of the remedial action implemented under the Consent Decree. Specific examples of required ongoing activities include, but are not limited to maintenance of “all drainage ways, berms, monitoring wells, permeable or impervious caps or covers (including paved portions of the property and areas covered by topsoil or other clean fill), piping, pumps and electrical equipment constructed or installed under the Consent Decree.” By its terms, the restrictive covenant is enforceable only by MEDEP. Compliance with this covenant is confirmed at the same time as the spring Site inspection.

Five-Year Review

Statutory five-year reviews are required at the O'Connor Superfund Site since hazardous substances remain at the Site above levels that allow for unlimited use and unrestricted exposure. Five-year reviews were completed for the Site in 2002, 2007, and 2012. The 2012 Five-Year Review stated that remedial actions at all OUs are protective, and therefore the Site is protective of human health and the environment. The 2012 Five-Year Review made the following protectiveness statements for each operable unit and sitewide:

OU-1: The remedial action for OU-1 has been completed and is protective of human health and the environment. Exposure pathways that could result in unacceptable risk are being controlled through a clean soil cap that covers remaining contamination and institutional controls that have been placed on the Site. The O&M plan was updated and approved in 2009 and its implementation will ensure that the OU-1 remedy remains protective.

OU-2: The remedy for OU-2 is protective of human health and the environment. Exposure pathways that could result in unacceptable risk are being controlled with institutional controls covering the entire Site. Outside the TI Zone, groundwater has met the performance standards for VOCs since Spring 2002 and for PCBs since Spring 2006. Long-term monitoring will continue to ensure that the performance standards continue to be met.

OU-3: The remedy at OU-3 is protective of human health and the environment. Annual sampling of sediments for ten years resulted in over 95% of the samples being below the 5 ppm trigger level with the annual mean PCB concentration varying between 0.38 and 1.72 ppm. Results from the two biota sampling events were below the threshold level of 2 ppm for all samples, with the overall average being below 1 ppm. Site inspections have documented functioning habitat in both the uplands and wetlands.

Sitewide: Because the remedial actions at all OUs are protective, the Site is protective of human health and the environment.

The 2012 Five-Year Review did not identify any issues in any of the operable units. The Final Remedial Action Report for OU-1 was signed in 1998 and the Final Remedial Action Report for OU-3 was signed in 2007. EPA signed the Superfund Property Reuse Evaluation Checklist for Reporting the Sitewide Ready for Anticipated Use Government Performance and Results Act Measure in 2009.

The next Five-Year Review is scheduled to be completed in September 2017.

Community Involvement

Leading up to the 1989 ROD, EPA kept the community and other interested parties apprised of the Site activities through informational meetings, fact sheets, press releases and public meetings. On July 19, 1989, EPA held a public informational meeting to discuss the results of the Remedial Investigation and the cleanup alternatives presented in the Feasibility Study, and to present the Agency's Proposed Plan. On August 10, 1989, the Agency held a public hearing to accept any oral comments about the Site.

Since the 1989 ROD, community involvement has been low. In June 2002 EPA published a Proposed Plan to amend the 1989 ROD. EPA held a public information meeting on June 24, 2002, and a formal public hearing on July 9, 2002. Only a few community members attended the informational meeting and none attended the public hearing. No comments from the community were received on the June 2002 Proposed Plan.

EPA issued a press release on May 8, 2002, that was published in the Kennebec Journal announcing EPA's first five-year review of the O'Connor Site cleanup. The press release encouraged public participation. Similarly, EPA issued public notices announcing EPA's second and third five-year reviews that were published in the Kennebec Journal on May 24, 2007, and May 25, 2012, respectively. These notices encouraged public participation and provided EPA contact information.

EPA will follow the procedures for community involvement activities associated with deletion described in the 2011 guidance document “Close Out Procedures for National Priorities List Sites.” These include preparing a public notice for publication in the local paper and notification to the Natural Resource Trustees of EPA's plan to delete the Site from the NPL.

Determination That the Site Meets the Criteria for Deletion in the NCP

EPA Region 1 has followed the deletion procedures required by 40 CFR 300.425(e). The implemented remedy has achieved the degree of cleanup or protection specified in the 1989 ROD, 1994 ESD, and 2002 ROD Amendment for all pathways of exposure. The activities for OU-1 remedy were successfully completed in 1997 and the activities for OU-3 remedy were successfully completed in 2006. With the 2002 Technical Impracticability waiver, groundwater (OU-2) beyond the TI Zone has met all cleanup standards since 2006. Therefore, EPA has determined, in consultation with MEDEP, all appropriate response actions have been implemented, and thus a criterion for deletion has been met.

V. Deletion Action

The EPA, with concurrence of the State of Maine through the Maine Department of Environmental Protection, has determined that all appropriate response actions under CERCLA, other than operation, maintenance, monitoring and five-year reviews have been completed. Therefore, EPA is deleting the Site from the NPL.

Because EPA considers this action to be noncontroversial and routine, EPA is taking it without prior publication. This action will be effective May 12, 2014 unless EPA receives adverse comments by April 11, 2014. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: February 27, 2014.
H. Curtis Spalding,
Regional Administrator, Region 1.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300 [Amended]

2. Table 1 of Appendix B to part 300 is amended by removing the entry for “ME,” “O'Connor Co”, “Augusta”.

[FR Doc. 2014-05224 Filed 3-11-14; 8:45 am]

BILLING CODE 6560-50-P